DEPARTMENT OF LABOR

Employment and Training Administration

[TA-W-50,951]

General Electric, Jonesboro, AR; Notice of Termination of Investigation

Pursuant to section 221 of the Trade Act of 1974, as amended, an investigation was initiated on February 24, 2003 in response to a petition filed by the International Union of Electronic, Electrical, Salaried, Machine and Furniture Workers—Communication Workers of America, AFL-CIO, Local 747 on behalf of workers at General Electric, Jonesboro, Arkansas.

The petitioner has requested that the petition be withdrawn. Consequently, further investigation would serve no purpose and the investigation has been terminated.

Signed at Washington, DC, this 18th day of March, 2003.
Linda G. Poole,
Certifying Officer, Division of Trade Adjustment Assistance.

[FR Doc. 03-7907 Filed 4-1-03; 8:45 am]

BILLING CODE 4510-30-U